DEPARTMENT OF LABOR

Employment and Training Administration

[TA-W-55,756]

Inmed Corporation d/b/a Rusch Including Leased Workers of Axiom, Partners in Staffing and Davis Company, Duluth, GA; Amended Certification Regarding Eligibility To Apply for Worker Adjustment Assistance and Negative Determination Regarding Eligibility To Apply for Alternative Trade Adjustment Assistance

In accordance with Section 223 of the Trade Act of 1974 (19 U.S.C. 2273) the Department of Labor issued a Certification of Eligibility to Apply for Worker Adjustment Assistance on October 20, 2004, applicable to workers of Inmed Corporation, d/b/a Rusch, including leased workers of Axiom and Partners in Staffing, Duluth, Georgia. The notice was published in the Federal Register on November 12, 2004. (69 FR 65463).

At the request of a company official, the Department reviewed the certification for workers of the subject firm. New information shows that leased workers of Davis Company were employed at Inmed Corporation, d/b/a Rusch, at the Duluth, Georgia location of the subject firm.

Based on these finding, the Department is amending this certification to include leased workers of Davis Company working at Inmed Corporation, d/b/a Rusch, Duluth, Georgia.

The intent of the Department's certification is to include all workers employed at Inmed Corporation, d/b/a Rusch, Duluth, Georgia, who were adversely affect by a shift in production to Mexico.

The amended notice applicable to TA-W-55,756 is hereby issued as follows:

“All workers of Inmed Corporation, d/b/a Rusch, including leased workers of Axiom, Partners in Staffing and Davis Company, Duluth, Georgia, who became totally or partially separated from employment on or after October 7, 2003 through October 20, 2006, are eligible to apply for adjustment assistance under Section 223 of the Trade Act of 1974, and are also eligible to apply for Alternative Trade Adjustment Assistance under Section 246 of the Trade Act of 1974,”

I further determine that all workers of Inmed Corporation, d/b/a Rusch, including leased workers of Axiom, Partners in Staffing and Davis Company, Duluth, Georgia, are denied eligibility to apply for alternative trade adjustment assistance under Section 246 of the Trade Act of 1974, as amended.

Signed in Washington, DC, this 3rd day of December 2004.
Richard Church,
Certifying Officer, Division of Trade Adjustment Assistance.

[FR Doc. E4-3732 Filed 12-17-04; 8:45 am]

BILLING CODE 4510-30-P